CONSUMER PRODUCT SAFETY COMMISSION

Commission Agenda and Priorities; Notice of Hearing

AGENCY: U.S. Consumer Product Safety Commission.

ACTION: Notice of public hearing.

SUMMARY: The U.S. Consumer Product Safety Commission (Commission) will conduct a public hearing to receive views from all interested parties about the Commission's agenda and priorities for fiscal year 2021, which begins on October 1, 2020, and for fiscal year 2022, which begins on October 1, 2021. We invite members of the public to participate. Written comments and oral presentations concerning the Commission's agenda and priorities for fiscal years 2021 and 2022 will become part of the public record.

DATES: The hearing will begin at 10 a.m. on April 15, 2020, and will conclude the same day. Requests to make oral presentations and the written text of any oral presentations must be received by the Division of the Secretariat not later than 5 p.m. Eastern Daylight Time (EDT) on April 1, 2020. The Commission will accept written comments as well. These also must be received by the Division of the Secretariat not later than 5 p.m. EDT on April 1, 2020.

ADDRESSES: The hearing will be in the Hearing Room, 4th Floor of the Bethesda Towers Building, 4330 East West Highway, Bethesda, MD 20814. Requests to make oral presentations, and texts of oral presentations and written comments should be captioned, “Agenda and Priorities FY 2021 and/or 2022,” and sent by electronic mail (email) to: cpsc-os@cpsc.gov, or mailed or delivered to the Division of the Secretariat, U.S. Consumer Product Safety Commission, 4330 East West Highway, Bethesda, MD 20814. Requests and written comments must be received no later than 5 p.m. EDT on April 1, 2020.

FOR FURTHER INFORMATION CONTACT: For information about the hearing, or to request an opportunity to make an oral presentation, please send an email, call, or write Alberta E. Mills, Division of the Secretariat, U.S. Consumer Product Safety Commission, 4330 East West Highway, Bethesda, MD 20814; email: cpsc-os@cpsc.gov; telephone: (301) 504-7479; facsimile: (301) 504-0127. An electronic copy of the CPSC's budget request for fiscal year 2020 and the CPSC's 2018-2022 Strategic Plan can be found at: www.cpsc.gov/about-cpsc/agency-reports/performance-and-budget.

SUPPLEMENTARY INFORMATION:

I. Background

Section 4(j) of the Consumer Product Safety Act (CPSA) (15 U.S.C. 2053(j)) requires the Commission to establish an agenda for action under the laws the Commission administers, and to the extent feasible, select priorities for action at least 30 days before the beginning of each fiscal year. Section 4(j) of the CPSA provides further that before establishing its agenda and priorities, the Commission shall conduct a public hearing and provide an opportunity for the submission of comments. The CPSC's programs will align with the strategic goals outlined in the CPSC's 2018-2022 Strategic Plan.

The CPSC's fiscal year 2021 Budget Request is based on four agency priorities: (1) Focusing the agency's resources on the highest-priority consumer product safety risks; (2) continuing to support import surveillance by operating, maintaining, and developing the Risk Assessment Methodology (RAM) system to identify and stop noncompliant imported products from entering the U.S. marketplace; (3) emphasizing collaboration, outreach, and education by engaging all stakeholders through forums, advisory groups, seminars, webinars, technical stakeholder-to-government discussions, and workshops; and (4) expanding the utility of the agency's data assets, data analysis tools, sources, and types of data analysis used to identify and assess hazards and inform solutions to address identified hazards. The Commission requests comments on the priorities as presented in the FY 2021 Budget Request. The CPSC's Budget Request for fiscal year 2021 can be found at: www.cpsc.gov/about-cpsc/agency-reports/performance-and-budget.

II. Oral Presentations and Submission of Written Comments

The Commission is preparing the agency's fiscal year 2021 Operating Plan and fiscal year 2022 Congressional Budget Request. Fiscal year 2021 begins on October 1, 2020, and fiscal year 2022 begins on October 1, 2021. Through this notice, the Commission invites the public to comment on the following questions:

1. What are the priorities the Commission should consider emphasizing and dedicating resources toward in the fiscal year 2021 Operating Plan and/or the fiscal year 2022 Congressional Budget Request?

2. What activities should the Commission consider deemphasizing in the fiscal year 2021 Operating Plan and/or the fiscal year 2022 Congressional Budget Request?

3. What retrospective review of rules should the Commission consider in the fiscal year 2021 Operating Plan and/or the fiscal year 2022 Congressional Budget Request?

4. Should the Commission consider making any changes or adjustments to the agency's proposed or ongoing safety standards activities, regulation, and enforcement efforts in fiscal years 2021 and 2022? Comments are welcome on whether particular action items should be higher priority than others, should not be included, or should be added to the fiscal year 2021 and/or fiscal year 2022 agendas.

Persons who desire to make oral presentations at the hearing on April 15, 2020, should send an email, call, or write Alberta E. Mills, Division of the Secretariat, U.S. Consumer Product Safety Commission, 4330 East West Highway, Bethesda, MD 20814; email: cpsc-os@cpsc.gov; telephone: (301) 504-7479; facsimile (301) 504-0127, not later than 5 p.m. EDT on April 1, 2020. Requests to make oral presentations and texts of the presentation must be received not later than 5 p.m. EDT on April 1, 2020. Presentations should be limited to approximately 10 minutes. The Commission reserves the right to impose further time limitations on all presentations and other restrictions to avoid duplication of presentations.

If you do not want to make an oral presentation, but would like to provide written comments, you may do so. Please submit written comments in the manner described in the previous paragraph. Written comments must be received no later than 5 p.m. EDT on April 1, 2020.

Alberta E. Mills,
Secretary, U.S. Consumer Product Safety Commission.

[FR Doc. 2020-04476 Filed 3-4-20; 8:45 am]

BILLING CODE 6355-01-P